DEPARTMENT OF ENERGY

Federal Energy Regulatory Commission

Combined Notice of Filings #2

Take notice that the Commission received the following exempt wholesale generator filings:

Docket Numbers: EG26-158-000.

Applicants: Atlas Solar, LLC.

Description: Atlas Solar, LLC submits Notice of Self-Certification of Exempt Wholesale Generator Status.

Filed Date: 2/20/26.

Accession Number: 20260220-5230.

Comment Date: 5 p.m. ET 3/13/26.

Take notice that the Commission received the following electric rate filings:

Docket Numbers: ER26-1422-001.

Applicants: Santa Teresa Storage, LLC.

Description: Tariff Amendment: Amendment to Market-Based Rate Application to be effective 5/1/2026.

Filed Date: 2/20/26.

Accession Number: 20260220-5163.

Comment Date: 5 p.m. ET 3/13/26.

Docket Numbers: ER26-1460-000.

Applicants: PJM Interconnection, L.L.C.

Description: § 205(d) Rate Filing: Original GIA, Service Agreement No. 7879; Project Identifier No. AF1-176 to be effective 1/21/2026.

Filed Date: 2/20/26.

Accession Number: 20260220-5148.

Comment Date: 5 p.m. ET 3/13/26.

Docket Numbers: ER26-1461-000.

Applicants: PJM Interconnection, L.L.C.

Description: § 205(d) Rate Filing: Original GIA, SA No. 7878; AE2-308 to be effective 1/21/2026.

Filed Date: 2/20/26.

Accession Number: 20260220-5205.

Comment Date: 5 p.m. ET 3/13/26.

Docket Numbers: ER26-1462-000.

Applicants: Northern States Power Company, a Minnesota corporation.

Description: § 205(d) Rate Filing: 2026-02-20 GRE-Cannon Falls-SISA-784-0.0.0 to be effective 2/21/2026.

Filed Date: 2/20/26.

Accession Number: 20260220-5207.

Comment Date: 5 p.m. ET 3/13/26.

Docket Numbers: ER26-1463-000.

Applicants: The Dayton Power and Light Company.

Description: § 205(d) Rate Filing: Construction Service Agreement Marysville Ohio to be effective 4/21/2026.

Filed Date: 2/20/26.

Accession Number: 20260220-5217.

Comment Date: 5 p.m. ET 3/13/26.

Docket Numbers: ER26-1464-000.

Applicants: North Johnson Energy Center, LLC.

Description: Initial rate filing: Shared Facilities Agreement to be effective 2/1/2026.

Filed Date: 2/20/26.

Accession Number: 20260220-5227.

Comment Date: 5 p.m. ET 3/13/26.

Docket Numbers: ER26-1465-000.

Applicants: Chula Vista Energy Center, LLC.

Description: Initial rate filing: Shared Facilities Agreement to be effective 2/1/2026.

Filed Date: 2/20/26.

Accession Number: 20260220-5232.

Comment Date: 5 p.m. ET 3/13/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 20, 2026.
Carlos D. Clay,
Deputy Secretary.

[FR Doc. 2026-03720 Filed 2-24-26; 8:45 am]

BILLING CODE 6717-01-P